DEPARTMENT OF THE TREASURY

Office of Foreign Assets Control

Additional Designation of Individuals Pursuant to Executive Order 13405

AGENCY: Office of Foreign Assets Control, Treasury.

ACTION: Notice.

SUMMARY: The Treasury Department's Office of Foreign Assets Control (“OFAC”) is publishing the names of six newly-designated individuals whose property and interests in property are blocked pursuant to Executive Order 13405 of June 16, 2006, “Blocking Property of Certain Persons Undermining Democratic Processes or Institutions in Belarus.”

DATES: The designation by the Director of OFAC of six individuals identified in this notice, pursuant to Executive Order 13405, is effective on February 27, 2007.

FOR FURTHER INFORMATION CONTACT: Assistant Director, Compliance Outreach & Implementation, Office of Foreign Assets Control, Department of the Treasury, 1500 Pennsylvania Avenue, NW. (Treasury Annex), Washington, DC 20220, Tel.: 202/622-2490.

SUPPLEMENTARY INFORMATION:

Electronic and Facsimile Availability

Information about this designation and additional information concerning OFAC are available from OFAC's Web site (http://www.treas.gov/ofac) or via facsimile through a 24-hour fax-on-demand service, Tel.: 202/622-0077.

Background

On June 16, 2006, the President issued Executive Order 13405 (the “Order”) pursuant to, inter alia, the International Emergency Economic Powers Act (50 U.S.C. 1701-06). In the Order, the President declared a national emergency to address political repression, electoral fraud, and public corruption in Belarus. The Order imposes economic sanctions on persons responsible for actions or policies that undermine democratic processes or institutions in Belarus. The President identified ten individuals as subject to the economic sanctions in the Annex to the Order.

Section 1 of the Order blocks, with certain exceptions, all property, and interests in property, that are in, or hereafter come within, the United States or the possession or control of United States persons for persons listed in the Annex and those persons determined by the Secretary of the Treasury, after consultation with the Secretary of State, to satisfy any of the criteria set forth in subparagraphs (a)(ii)(A) through (a)(ii)(E) of Section 1. On February 27, 2007, the Director of OFAC exercised the Secretary of the Treasury's authority to designate, pursuant to one or more of the criteria set forth in Section 1, subparagraphs (a)(ii)(A) through (a)(ii)(E) of the Order, the following six individuals, whose names have been added to the list of Specially Designated Nationals and whose property and interests in property are blocked, pursuant to Executive Order 13405:

1. MIKLASHEVICH, Petr Petrovich (a.k.a. MIKLASHEVICH, Piotr Piatrovich); DOB 1954; POB Kosuta, Minsk district, Belarus; nationality Belarus; Prosecutor General (individual) [Belarus]

2. PODOBED, Yuri Nikolaevich; DOB 5 March 1962; POB Slutsk, Minsk district, Belarus; nationality Belarus; Lieutenant Colonel of the Special Riot Police in Minsk (OMON) (individual) [Belarus]

3. RADKOV, Aleksandr Mikhailovich (a.k.a. RADZKOU, Alaksandr Mikhailavich); DOB 1 July 1951; POB Votnya, Belarus; nationality Belarus; Minister of Education (individual) [Belarus]

4. RUSAKEVICH, Vladimir Vasilyevich (a.k.a. RUSAKEVICH, Uladzimir Vasilievich); DOB 13 September 1947; POB Vygonoshchi, Belarus; nationality Belarus; Minister of Information (individual) [Belarus]

5. SIVAKOV, Yury; DOB 5 August 1946; POB Onory, Kirov district, Belarus; nationality Belarus; former Minister of the Interior; former Minister of Sport and Tourism (individual) [Belarus]

6. SLIZHEVSKY, Oleg Leonidovich (a.k.a. SLIZHEUSKI, Aleh Leanidavich); nationality Belarus; Head of the Public Associations Department (individual) [Belarus]

Dated: February 27, 2007.
Adam J. Szubin,
Director, Office of Foreign Assets Control.

[FR Doc. E7-5265 Filed 3-21-07; 8:45 am]

BILLING CODE 4811-42-P